DEPARTMENT OF THE INTERIOR

Bureau of Safety and Environmental Enforcement

30 CFR Parts 203, 250, and 254

[Docket ID: BSEE-2025-0005; EEEE500000 245E1700D2 ET1SF0000.EAQ000]

RIN 1014-AA65

Restoration of Names That Honor American Greatness; Gulf of America

AGENCY: Bureau of Safety and Environmental Enforcement (BSEE), Interior.

ACTION: Final rule.

SUMMARY: This final rule will, throughout the Bureau of Safety and Environmental Enforcement's regulations, rename the area formerly known as the Gulf of Mexico (GOM) as the Gulf of America (GOA). The Gulf of America is the U.S. Continental Shelf area bounded on the northeast, north, and northwest by the States of Texas, Louisiana, Mississippi, Alabama, and Florida and extending to the seaward boundary with Mexico and Cuba.

DATES: This rule is effective on September 15, 2025.

FOR FURTHER INFORMATION CONTACT: Kirk Malstrom, Chief, Regulations and Standards Branch, (202) 258-1518, or by email: regs@bsee.gov.

SUPPLEMENTARY INFORMATION:

I. Background and Legal Authority

On January 20, 2025, the President signed Executive Order (E.O.) 14172, Restoring Names that Honor American Greatness. This E.O. directs the Secretary of the Interior (Secretary) to take all appropriate actions to rename as the “Gulf of America” the U.S. Continental Shelf area bounded on the northeast, north, and northwest by the States of Texas, Louisiana, Mississippi, Alabama, and Florida and extending to the seaward boundary with Mexico and Cuba in the area formerly named as the Gulf of Mexico. BSEE is removing all references to the Gulf of Mexico from its regulations. BSEE is updating all its references in the Code of Federal Regulations (CFR) to the Gulf of America or (GOA), consistent with 43 U.S.C. 364 through 364f. (a). BSEE is promulgating this final rule to implement the directive of E.O. 14172 and for good cause finds that a proposed rule is unnecessary pursuant to 5 U.S.C. 553(b)(B). Public notice and comment is unnecessary because this rule makes minor technical amendments to conform the language of the regulations with the directive of E.O. 14172. Updating the name for the Gulf of America region imposes no substantive changes and does not impact the public's rights or obligations. Accordingly, this final rule is exempt from public notice and comment rulemaking requirements under 5 U.S.C. 553(b)(B).

The area formerly known as the Gulf of Mexico has long been an integral asset to our once burgeoning Nation and has remained an indelible part of America. The Gulf was a crucial artery for America's early trade and global commerce. It is the largest gulf in the world, and the United States coastline along this remarkable body of water spans over 1,700 miles and contains nearly 160 million acres. Its natural resources and wildlife remain central to America's economy today. The bountiful geology of this basin has made it one of the most prodigious oil and gas regions in the world, providing roughly 14 percent of our Nation's crude-oil production and an abundance of natural gas, and consistently driving new and innovative technologies that have allowed us to tap into some of the deepest and richest oil reservoirs in the world. The Gulf is also home to vibrant American fisheries teeming with snapper, shrimp, grouper, stone crab, and other species, and it is recognized as one of the most productive fisheries in the world, with the second largest volume of commercial fishing landings by region in the Nation, contributing millions of dollars to local American economies. The Gulf is also a favorite destination for American tourism and recreation activities. Further, the Gulf is a vital region for the multi-billion-dollar U.S. maritime industry, providing some of the largest and most impressive ports in the world. The Gulf will continue to play a pivotal role in shaping America's future and the global economy, and in recognition of this flourishing economic resource and its critical importance to our Nation's economy and its people.

II. Procedural Requirements

A. Regulatory Planning and Review (E.O. 12866 and 13563)

E.O. 12866 provides that the OMB Office of Information and Regulatory Affairs (OIRA) will review all significant rules. OIRA has determined that this rule is not significant.

E.O. 13563 reaffirms the principles of E.O. 12866 while calling for improvements in the Nation's regulatory system to promote predictability, to reduce uncertainty, and to use the best, most innovative, and least burdensome tools for achieving regulatory ends. E.O. 13563 directs agencies to consider regulatory approaches that reduce burdens and maintain flexibility and freedom of choice for the public where these approaches are relevant, feasible, and consistent with regulatory objectives. E.O. 13563 further emphasizes that regulations must be based on the best available science and that the rulemaking process must allow for public participation and an open exchange of ideas. We have developed this rule in a manner consistent with these requirements, to the extent permitted by statute.

B. Regulatory Flexibility Act

The Regulatory Flexibility Act (RFA) requires an agency to prepare a regulatory flexibility analysis for rules unless the agency certifies that the rule will not have a significant economic impact on a substantial number of small entities. The RFA applies only to rules for which an agency is required to first publish a proposed rule. (See 5 U.S.C. 603(a) and 604(a)). This rule is exempt from the requirement to publish a proposed rule for notice and comment pursuant to 5 U.S.C. 553(b)(B). Thus, the RFA does not apply to this rulemaking.

C. Small Business Regulatory Enforcement Fairness Act

This rule is not a major rule under 5 U.S.C. 804(2), the Small Business Regulatory Enforcement Fairness Act. This rule:

(1) Does not have an annual effect on the economy of $100 million or more;

(2) Will not cause a major increase in costs or prices for consumers, individual industries, Federal, State, or local government agencies, or geographic regions; and

(3) Does not have significant adverse effects on competition, employment, investment, productivity, innovation, or the ability of U.S.-based enterprises to compete with foreign-based enterprises.

D. Unfunded Mandates Reform Act

This rule does not impose an unfunded mandate on State, local, or Tribal governments, or the private sector of more than $100 million per year. The rule does not have a significant or unique effect on State, local, or Tribal governments or the private sector. Therefore, a statement containing the information required by the Unfunded Mandates Reform Act (2 U.S.C. 1531 et seq.) is not required.

E. Takings (E.O. 12630)

This rule does not effect a taking of private property or otherwise have takings implications under E.O. 12630. Therefore, a takings implication assessment is not required.

F. Federalism (E.O. 13132)

Under the criteria in section 1 of E.O. 13132, this rule does not have sufficient federalism implications to warrant the preparation of a federalism summary impact statement. To the extent that State and local governments have a role in Outer Continental Shelf activities, this rule will not affect that role. Therefore, a federalism summary impact statement is not required.

G. Civil Justice Reform (E.O. 12988)

This rule complies with the requirements of E.O. 12988. Specifically, this rule:

(1) Meets the criteria of section 3(a) requiring that all regulations be reviewed to eliminate errors and ambiguity and be written to minimize litigation; and

(2) Meets the criteria of section 3(b)(2) requiring that all regulations be written in clear language and contain clear legal standards.

H. Consultation With Indian Tribes (E.O. 13175 and Departmental Policy)

The Department of the Interior strives to strengthen its government-to-government relationship with Indian Tribes through a commitment to consultation and recognition of their right to self-governance and Tribal sovereignty. We have evaluated this rule under the Department of the Interior's consultation policy, Departmental Manual Part 512 Chapters 4 and 5, and under the criteria in E.O. 13175. We have determined that this final rule has no substantial direct effects on federally recognized Indian Tribes or Alaska Native Claims Settlement Act (ANCSA) Corporations, and that consultation under the Department of the Interior's Tribal and ANCSA consultation policies is not required.

I. Paperwork Reduction Act

This rule does not contain information collection requirements, and a submission to the OMB under the Paperwork Reduction Act (44 U.S.C. 3501 et seq.) is not required.

J. National Environmental Policy Act

This rule does not constitute a major Federal action significantly affecting the quality of the human environment. A detailed statement under the National Environmental Policy Act (NEPA) is not required because, as a regulation of an administrative nature, this rule is covered by a categorical exclusion (see 43 CFR 46.210(i)). BSEE also determined that the rule does not implicate any of the extraordinary circumstances listed in 43 CFR 46.215 that would require further analysis under NEPA. Therefore, a detailed statement under NEPA is not required.

K. Effects on the Energy Supply (E.O. 13211)

This rule is not a significant energy action under the definition in E.O. 13211. Therefore, a statement of energy effects is not required.

List of Subjects

30 CFR Part 203

Continental shelf, Indians—lands, Oil and gas exploration, Public lands—mineral resources, Sulfur.

30 CFR Part 250

Administrative practice and procedure, Continental shelf, Environmental impact statements, Environmental protection, Government contracts, Investigations, Oil and gas exploration, Penalties, Pipelines, Continental Shelf—mineral resources, Continental Shelf—rights-of-way, Reporting and recordkeeping requirements, Sulfur.

30 CFR Part 254

Continental shelf, Environmental protection, Intergovernmental relations, Oil and gas exploration, Oil pollution, Pipelines, Public lands—mineral resources, Reporting and recordkeeping requirements.

This action by the Assistant Secretary is taken herein pursuant to an existing delegation of authority.

For the reasons stated in the preamble, BSEE amends 30 CFR parts 203, 250, and 254 as follows.

PART 203—RELIEF OR REDUCTION IN ROYALTY RATES

1. The authority citation for 30 CFR part 203 continues to read as follows:

Authority: 25 U.S.C. 396 et seq.; 25 U.S.C. 396a et seq.; 25 U.S.C. 2101 et seq.; 30 U.S.C. 181 et seq.; 30 U.S.C. 351 et seq.; 30 U.S.C. 1001 et seq.; 30 U.S.C. 1701 et seq.; 31 U.S.C. 9701; 42 U.S.C. 15903-15906; 43 U.S.C. 1301 et seq.; 43 U.S.C. 1331 et seq.; and 43 U.S.C. 1801 et seq.

2. Amend § 203.0 by revising the definitions of “Authorized field”; “Development project”, “Eligible lease”, “Expansion project”, and “Pre-Act” to read as follows:

§ 203.0 What definitions apply to this part?

Authorized field means a field:

(1) Located in a water depth of at least 200 meters and in the Gulf of America-(GOA) west of 87 degrees, 30 minutes West longitude;

(2) That includes one or more pre-Act leases; and

(3) From which no current pre-Act lease produced, other than test production, before November 28, 1995.

* * * * *

Development project means a project to develop one or more oil or gas reservoirs located on one or more contiguous leases that have had no production (other than test production) before the current application for royalty relief and are either:

(1) Located in a planning area offshore Alaska; or

(2) Located in the GOA in a water depth of at least 200 meters and wholly west of 87 degrees, 30 minutes West longitude, and were issued in a sale held after November 28, 2000.

* * * * *

Eligible lease means a lease that:

(1) Is issued as part of an OCS lease sale held after November 28, 1995, and before November 28, 2000;

(2) Is located in the Gulf of America in water depths of 200 meters or deeper;

(3) Lies wholly west of 87 degrees, 30 minutes West longitude; and

(4) Is offered subject to a royalty suspension volume.

* * * * *

Expansion project means a project that meets the following requirements:

(1) You must propose the project in a (BOEM) Development and Production Plan, a BOEM Development Operations Coordination Document (DOCD), or a BOEM Supplement to a DOCD, approved by the Secretary of the Interior after November 28, 1995.

(2) The project must be located on either:

(i) A pre-Act lease in the GOA, or a lease in the GOA issued in a sale held after November 28, 2000, located wholly west of 87 degrees, 30 minutes West longitude; or

(ii) A lease in a planning area offshore Alaska.

(3) On a pre-Act lease in the GOA, the project:

(i) Must significantly increase the ultimate recovery of resources from one or more reservoirs that have not previously produced (extending recovery from reservoirs already in production does not constitute a significant increase); and

(ii) Must involve a substantial capital investment (e.g., fixed-leg platform, subsea template and manifold, tension-leg platform, multiple well project, etc.).

(4) For a lease issued in a planning area offshore Alaska, or in the GOA after November 28, 2000, the project must involve a new well drilled into a reservoir that has not previously produced.

(5) On a lease in the GOA, the project must not include a reservoir the production from which an RSV under §§ 203.30 through 203.36 or §§ 203.40 through 203.48 would be applied.

* * * * *

Pre-Act lease means a lease that:

(1) Results from a sale held before November 28, 1995;

(2) Is located in the GOA in water depths of 200 meters or deeper; and

(3) Lies wholly west of 87 degrees, 30 minutes West longitude.

* * * * *

3. Amend § 203.1 by revising paragraphs (b), (c), and (d) to read as follows:

§ 203.1 What is BSEE's authority to grant royalty relief?

* * * * *

(b) Under 43 U.S.C. 1337(a)(3)(B), we may reduce, modify, or eliminate any royalty or net profit share to promote development, increase production, or encourage production of marginal resources on certain leases or categories of leases. This authority is restricted to leases in the GOA that are west of 87 degrees, 30 minutes West longitude, and in the planning areas offshore Alaska.

(c) Under 43 U.S.C. 1337(a)(3)(C), we may suspend royalties for designated volumes of new production from any lease if:

(1) Your lease is in deep water (water at least 200 meters deep);

(2) Your lease is in designated areas of the GOA (west of 87 degrees, 30 minutes West longitude);

(3) Your lease was acquired in a lease sale held before the DWRRA (before November 28, 1995);

(4) We find that your new production would not be economic without royalty relief; and

(5) Your lease is on a field that did not produce before enactment of the DWRRA, or if you propose a project to significantly expand production under a Development Operations Coordination Document (DOCD) or a supplementary DOCD, that the Bureau of Ocean Energy Management (BOEM) approved after November 28, 1995.

(d) Under 42 U.S.C. 15904-15905, we may suspend royalties for designated volumes of gas production from deep and ultra-deep wells on a lease if:

(1) Your lease is in shallow water (water less than 400 meters deep) and you produce from an ultra-deep well (top of the perforated interval is at least 20,000 feet TVD SS) or your lease is in waters entirely more than 200 meters and entirely less than 400 meters deep and you produce from a deep well (top of the perforated interval is at least 15,000 feet TVD SS);

(2) Your lease is in the designated area of the GOA (wholly west of 87 degrees, 30 minutes west longitude); and

(3) Your lease is not eligible for deep water royalty relief.

4. Amend § 203.2 by revising paragraphs (b) through (g) in the table to read as follows:

§ 203.2 How can I obtain royalty relief?

* * * * *

If you have a lease . . . | And if you . . . | Then we may grant you . . .
* * * * * * *
(b) Located in a designated GOA deep water area (i.e., 200 meters or greater) and acquired in a lease sale held before November 28, 1995, or after November 28, 2000, | Propose an expansion project and can demonstrate your project is uneconomic without royalty relief, | A royalty suspension for a minimum production volume plus any additional production large enough to make the project economic (see §§ 203.60 through 203.79).
(c) Located in a designated GOA deep water area and acquired in a lease sale held before November 28, 1995 (Pre-Act lease), | Are on a field from which no current pre-Act lease produced (other than test production) before November 28, 1995, (Authorized field,) | A royalty suspension for a minimum production volume plus any additional volume needed to make the field economic (see §§ 203.60 through 203.79).
(d) Located in a designated GOA deep water area and acquired in a lease sale held after November 28, 2000, | Propose a development project and can demonstrate that the suspension volume, if any, for your lease is not enough to make development economic, | A royalty suspension for a minimum production volume plus any additional volume needed to make your project economic (see §§ 203.60 through 203.79).
(e) Where royalty relief would recover significant additional resources or, offshore Alaska or in certain areas of the GOA, would enable development, | Are not eligible to apply for end-of-life or deep water royalty relief, but show us you meet certain eligibility conditions, | A royalty modification in size, duration, or form that makes your lease or project economic (see § 203.80).
(f) Located in a designated GOA shallow water area and acquired in a lease sale held before January 1, 2001, or after January 1, 2004, or have exercised an option to substitute for royalty relief in your lease terms, | Drill a deep well on a lease that is not eligible for deep water royalty relief and you have not previously produced oil or gas from a deep well or an ultra-deep well, | A royalty suspension for a volume of gas produced from successful deep and ultra-deep wells, or, for certain unsuccessful deep and ultra-deep wells, a smaller royalty suspension for a volume of gas or oil produced by all wells on your lease (see §§ 203.40 through 203.49).
(g) Located in a designated GOA shallow water area, | Drill and produce gas from an ultra-deep well on a lease that is not eligible for deep water royalty relief and you have not previously produced oil or gas from an ultra-deep well, | A royalty suspension for a volume of gas produced from successful ultra-deep and deep wells on your lease (see §§ 203.30 through 203.36).
* * * * * * *

5. Amend § 203.30 by revising paragraph (a) to read as follows:

§ 203.30 Which leases are eligible for royalty relief as a result of drilling a phase 2 or phase 3 ultra-deep well?

* * * * *

(a) The lease is located in the GOA wholly west of 87 degrees, 30 minutes West longitude in water depths entirely less than 400 meters deep.

* * * * *

6. Amend § 203.31 by revising paragraph (d) introductory text to read as follows:

§ 203.31 If I have a qualified phase 2 or qualified phase 3 ultra-deep well, what royalty relief would that well earn for my lease?

* * * * *

(d) The following examples illustrate how this section applies. These examples assume that your lease is located in the GOA west of 87 degrees, 30 minutes West longitude and in water less than 400 meters deep (see § 203.30(a)), has no existing deep or ultra-deep wells and that the price thresholds prescribed in § 203.36 have not been exceeded.

* * * * *

7. Amend § 203.40 by revising paragraph (a) to read as follows:

§ 203.40 Which leases are eligible for royalty relief as a result of drilling a deep well or a phase 1 ultra-deep well?

* * * * *

(a) The lease is located in the GOA wholly west of 87 degrees, 30 minutes West longitude in water depths entirely less than 400 meters deep.

* * * * *

8. Amend § 203.49 by revising paragraph (a) to read as follows:

§ 203.49 May I substitute the deep gas drilling provisions in this part for the deep gas royalty relief provided in my lease terms?

(a) You may exercise an option to replace the applicable lease terms for royalty relief related to deep-well drilling with those in § 203.0 and §§ 203.40 through 203.48 if you have a lease issued with royalty relief provisions for deep-well drilling. Such leases:

(1) Must be issued as part of an OCS lease sale held after January 1, 2001, and before April 1, 2004; and

(2) Must be located wholly west of 87 degrees, 30 minutes West longitude in the GOA entirely or partly in water less than 200 meters deep.

* * * * *

9. Amend § 203.60 by revising the section heading to read as follows:

§ 203.60 Who may apply for royalty relief on a case-by-case basis in deep water in the Gulf of America or offshore of Alaska?

10. Amend § 203.61 by revising paragraph (a) to read as follows:

§ 203.61 How do I assess my chances for getting relief?

* * * * *

(a) To request a nonbinding assessment, you must:

(1) Submit a draft application in the format and detail specified in guidance from the BSEE regional office for the GOA;

(2) Propose to drill at least one more appraisal well if you get a favorable assessment; and

(3) Pay a fee under § 203.3.

* * * * *

11. Amend § 203.62 by revising paragraph (b) to read as follows:

§ 203.62 How do I apply for relief?

* * * * *

(b) Your application for royalty relief offshore Alaska or in deep water in the GOA must include an original and two copies (one set of digital information) of:

(1) Administrative information report;

(2) Economic viability and relief justification report;

(3) G&G report;

(4) Engineering report;

(5) Production report; and

(6) Cost report.

* * * * *

12. Amend § 203.69 by revising paragraphs (e) and (f) to read as follows:

§ 203.69 If my application is approved, what royalty relief will I receive?

* * * * *

(e) If neither paragraph (c) nor (d) of this section apply, the minimum royalty suspension volumes are as shown in the following table:

For . . . | The minimum royalty suspension volume is . . . | Plus . . .
(1) RS leases in the GOA or leases offshore Alaska, | A volume equal to the combined royalty suspension volumes (or the volume equivalent based on the data in your approved application for other forms of royalty suspension) with which BSEE issued the leases participating in the application that have or plan a well into a reservoir identified in the application, | 10 percent of the median of the distribution of known recoverable resources upon which BSEE based approval of your application from all reservoirs included in the project.
(2) Leases offshore Alaska or other deep water GOA leases issued in sales after November 28, 2000, | A volume equal to 10 percent of the median of the distribution of known recoverable resources upon which BSEE based approval of your application from all reservoirs included in the project

(f) If your application includes pre-Act leases in different categories of water depth, we apply the minimum royalty suspension volume for the deepest such lease then assigned to the field. We base the water depth and makeup of a field on the water-depth delineations in the “Lease Terms and Economic Conditions” map and the “Fields Directory” documents and updates in effect at the time your application is deemed complete. These publications are available from the BSEE Gulf of America Regional Office.

* * * * *

13. Amend § 203.78 by revising paragraph (a) to read as follows:

§ 203.78 Do I keep relief approved by BSEE under this part for my lease, unit or project if prices rise significantly?

* * * * *

(a) The following table shows the base price threshold for various types of leases, subject to paragraph (b) of this section. Note that, for post-November 2000 deepwater leases in the GOA price thresholds apply on a lease basis, so different leases on the same development project or expansion project approved for royalty relief may have different price thresholds.

For . . . | The base price threshold is . . .
(1) Pre-Act leases in the GOA, | set by statute.
(2) Post-November 2000 deep water leases in the GOA or leases offshore of Alaska for which the lease or Notice of Sale set a base price threshold, | indicated in your original lease agreement or, if none, those in the Notice of Sale under which your lease was issued.
(3) Post-November 2000 deep water leases in the GOA or leases offshore of Alaska for which the lease or Notice of Sale did not set a base price threshold, | the threshold set by statute for pre-Act leases.

* * * * *

14. Amend § 203.80 by revising the introductory paragraph to read as follows:

§ 203.80 When can I get royalty relief if I am not eligible for royalty relief under other sections in the subpart?

We may grant royalty relief when it serves the statutory purposes summarized in § 203.1 and our formal relief programs, including but not limited to the applicable levels of the royalty suspension volumes and price thresholds, provide inadequate encouragement to promote development or increase production. Unless your lease lies offshore of Alaska or wholly west of 87 degrees, 30 minutes West longitude in the GOA, your lease must be producing to qualify for relief. Before you may apply for royalty relief apart from our programs for end-of-life leases or for pre-Act deep water leases and development and expansion projects, we must agree that your lease or project has two or more of the following characteristics:

* * * * *

15. Amend § 203.86 by revising paragraph (a) to read as follows:

§ 203.86 What is in a G&G report?

* * * * *

(a) Seismic data which includes:

(1) Non-interpreted 2D/3D survey lines reflecting any available state-of-the-art processing technique in a format readable by BSEE and specified by the deep water royalty relief guidelines;

(2) Interpreted 2D/3D seismic survey lines reflecting any available state-of-the-art processing technique identifying all known and prospective pay horizons, wells, and fault cuts;

(3) Digital velocity surveys in the format of the GOA region's letter to lessees of 10/1/90;

(4) Plat map of “shot points;” and

(5) “Time slices” of potential horizons.

* * * * *

PART 250—OIL AND GAS AND SULPHUR OPERATIONS IN THE OUTER CONTINENTAL SHELF

16. The authority citation for part 250 continues to read as follows:

Authority: 30 U.S.C. 1751, 31 U.S.C. 9701, 33 U.S.C. 1321(j)(1)(C), 43 U.S.C. 1334.

17. In § 250.105:

a. Remove the definitions for “Eastern Gulf of Mexico” and “Western Gulf of Mexico”; and

b. Add the definitions in alphabetical order for “Eastern Gulf of America” and “Western Gulf of America”.

The additions read as follows:

§ 250.105 Definitions.

* * * * *

Eastern Gulf of America-means all OCS areas of the Gulf of America the BOEM Director decides are adjacent to the State of Florida. The Eastern Gulf of America-is not the same as the Eastern Planning Area, an area established for OCS lease sales.

* * * * *

Western Gulf of America means all OCS areas of the Gulf of America except those the BOEM Director decides are adjacent to the State of Florida. The Western Gulf of America is not the same as the Western Planning Area, an area established for OCS lease sales.

* * * * *

18. Amend § 250.150 by revising the section heading to read as follows:

§ 250.150 How do I name facilities and wells in the Gulf of America Region?

19. Amend § 250.154 by revising paragraph (a)(3) to read as follows:

§ 250.154 What identification signs must I display?

(a) * * *

(3) Your identification sign must:

(i) List the name of the lessee or designated operator;

(ii) In the GOA-OCS Region, list the area designation or abbreviation and the block number of the facility location as depicted on OCS Official Protraction Diagrams or leasing maps;

(iii) In the Pacific OCS Region, list the lease number on which the facility is located; and

(iv) List the name of the platform, structure, artificial island, or mobile offshore drilling unit.

* * * * *

20. Amend § 250.192 by revising paragraphs (a)(1) through (4) to read as follows:

§ 250.192 What reports and statistics must I submit relating to a hurricane, earthquake, or other natural occurrence?

(a) * * *

(1) Submit the statistics by fax or email (for activities in the BSEE GOA-OCS Region, use Form BSEE-0132) as soon as possible when evacuation occurs. In lieu of submitting your statistics by fax or email, you may submit them electronically in accordance with 30 CFR 250.186(a)(3);

(2) Submit the statistics on a daily basis by 11 a.m., as conditions allow, during the period of shut-in and evacuation;

(3) Inform BSEE when you resume production; and

(4) Submit the statistics either by BSEE district, or the total figures for your operations in a BSEE region.

* * * * *

21. Amend § 250.743 by revising paragraph (a) to read as follows:

§ 250.743 What are the well activity reporting requirements?

(a) For operations in the BSEE Gulf of America (GOA) OCS Region, you must submit Form BSEE-0133, Well Activity Report (WAR), to the District Manager on a weekly basis. The reporting week is defined as beginning on Sunday (12 a.m.) and ending on the following Saturday (11:59 p.m.). This reporting week corresponds to a week (Sunday through Saturday) on a standard calendar. Report any well operations that extend past the end of this weekly reporting period on the next weekly report. The reporting period for the weekly report is never longer than 7 days, but could be less than 7 days for the first reporting period and the last reporting period for a particular well operation. Submit each WAR and accompanying Form BSEE-0133S, Open Hole Data Report, to the BSEE GOA-OCS Region no later than close of business on the Friday immediately after the closure of the reporting week. The District Manager may require more frequent submittal of the WAR on a case-by-case basis.

* * * * *

22. Amend § 250.904 by revising paragraph (a) to read as follows:

§ 250.904 What is the Platform Approval Program?

(a) The Platform Approval Program is the BSEE basic approval process for platforms on the OCS. The requirements of the Platform Approval Program are described in §§ 250.904 through 250.908 of this subpart. Completing these requirements will satisfy BSEE criteria for approval of fixed platforms of a proven design that will be placed in the shallow water areas (≤400 ft.) of the Gulf of America OCS.

* * * * *

23. Amend § 250.1010 by revising paragraph (f)(2) to read as follows:

§ 250.1010 General requirements for pipeline right-of-way holders.

* * * * *

(f) * * *

(2) Unless otherwise exempted by FERC pursuant to 43 U.S.C. 1334(f)(2), the holder shall:

(i) Provide open and nondiscriminatory access to a right-of-way pipeline to both owner and nonowner shippers, and

(ii) Comply with the provisions of 43 U.S.C. 1334(f)(1)(B) under which FERC may order an expansion of the throughput capacity of a right-of-way pipeline which is approved after September 18, 1978, and which is not located in the Gulf of America or the Santa Barbara Channel.

* * * * *

24. Amend § 250.1704 by revising paragraphs (a) and (c) in the table to read as follows:

§ 250.1704 What decommissioning applications and reports must I submit and when must I submit them?

* * * * *

Decommissioning Applications and Reports Table
Decommissioning applications and reports | When to submit | Instructions
(a) Initial platform removal application [not required in the Gulf of America OCS Region] | In the Pacific OCS Region or Alaska OCS Region, submit the application to the Regional Supervisor at least 2 years before production is projected to cease | Include information required under § 250.1726.
* * * * * * *
(c) Final removal application for a platform or other facility | Before removing a platform or other facility in the Gulf of America OCS Region, or not more than 2 years after the submittal of an initial platform removal application to the Pacific OCS Region and the Alaska OCS Region | Include information required under § 250.1727.
* * * * * * *

PART 254—OIL-SPILL RESPONSE REQUIREMENTS FOR FACILITIES LOCATED SEAWARD OF THE COAST LINE

25. The authority citation for part 254 continues to read as follows:

Authority: 33 U.S.C. 1321.

26. Amend § 254.7 by revising paragraph (b) to read as follows:

§ 254.7 How do I submit my OSRP to the BSEE?

* * * * *

(b) Send OSRPs for facilities in the Gulf of America-or Atlantic Ocean to: Bureau of Safety and Environmental Enforcement, Oil Spill Preparedness Division, Attention: GOA Section Supervisor, 1201 Elmwood Park Boulevard, New Orleans, LA 70123-2394.

* * * * *

Adam G. Suess,
Acting Assistant Secretary, Land and Minerals Management.

[FR Doc. 2025-17775 Filed 9-12-25; 8:45 am]

BILLING CODE 4310-VH-P